FEDERAL COMMUNICATIONS COMMISSION

47 CFR Part 73

[DA 04-676; MB Docket No. 03-163; RM-10734]

Radio Broadcasting Services; Fortuna Foothills and Wellton, AZ

AGENCY: Federal Communications Commission.

ACTION: Final rule; denial of petition for reconsideration.

SUMMARY: This document denies a Petition for Reconsideration filed by Dana J. Puopolo directed at the Report and Order in this proceeding, which dismissed the Petition for Rulemaking requesting the allotment of Channel 240A to Fortuna Foothills, and substituting Channel 248A for vacant Channel 240A at Wellton, Arizona to accommodate the allotment at Fortuna Foothills. See 68 FR 61788, published October 30, 2003. With this action, the proceeding is terminated.

FOR FURTHER INFORMATION CONTACT: Rolanda F. Smith, Media Bureau, (202) 418-2180.

SUPPLEMENTARY INFORMATION: This is a synopsis of the Commission's Memorandum Opinion and Order, adopted March 12, 2004, and released March 15, 2004. The full text of this decision is available for inspection and copying during normal business hours in the FCC Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualexint@aol.com.

Federal Communications Commission.
John A. Karousos,
Assistant Chief, Audio Division, Media Bureau.

[FR Doc. 04-7102 Filed 3-29-04; 8:45 am]

BILLING CODE 6712-01-P